DEPARTMENT OF COMMERCE

International Trade Administration

[A-552-831]

Seamless Refined Copper Pipe and Tube From the Socialist Republic of Vietnam: Antidumping Duty Order

AGENCY: Enforcement and Compliance, International Trade Administration, Department of Commerce.

SUMMARY: Based on the affirmative final determinations by the Department of Commerce (Commerce) and the U.S. International Trade Commission (ITC), Commerce is issuing an antidumping duty (AD) order on seamless refined copper pipe and tube (copper pipe and tube) from the Socialist Republic of Vietnam (Vietnam).

DATES: Applicable August 13, 2021.

FOR FURTHER INFORMATION CONTACT: Ariela Garvett, AD/CVD Operations, Office IV, Enforcement and Compliance, International Trade Administration, U.S. Department of Commerce, 1401 Constitution Avenue NW, Washington, DC 20230; telephone: (202) 482-3609.

SUPPLEMENTARY INFORMATION:

Background

In accordance with sections 735(d) and 777(i)(1) of the Tariff Act of 1930, as amended (the Act), on June 24, 2021, Commerce published its affirmative final determination of sales at less than fair value (LTFV) of copper pipe and tube from Vietnam.¹ As part of this determination, Commerce made negative critical circumstances findings for the sole mandatory respondent, Hailiang (Vietnam) Copper Manufacturing Company (Hailiang Vietnam) and its affiliated trading company Hongkong Hailiang Metal Trading Limited (also known as Hong Kong Hailiang Metal Trading Limited) (Hongkong Hailiang) (collectively, Hailiang Vietnam/Hongkong Hailiang), the non-examined, separate rate companies, and the Vietnam-wide entity.² On August 5, 2021, the ITC notified Commerce of its final affirmative determination that an industry in the United States is materially injured by reason of LTFV imports of copper pipe and tube from Vietnam, within the meaning of section 735(b)(1)(A)(i) of the Act.³

¹ See Seamless Refined Copper Pipe and Tube from the Socialist Republic of Vietnam: Final Affirmative Determination of Sales at Less Than Fair Value, and Final Negative Determination of Critical Circumstances, 86 FR 33228 (June 24, 2021) (Final Determination).

² Id.

³ See ITC's Letter, ITC Notification, dated August 5, 2021 (ITC Notification).

Scope of the Order

The products covered by this order are copper pipe and tube from Vietnam. For a complete description of the scope of the order, see the appendix to this notice.

Order

In accordance with sections 735(b)(1)(A)(i) and 735(d) of the Act, the ITC notified Commerce of its final determination that an industry in the United States is materially injured by reason of imports of copper pipe and tube from Vietnam.⁴ Therefore, Commerce is issuing this order in accordance with section 735(c)(2) of the Act. Because Commerce has determined that sales of copper pipe and tube from Vietnam were made at LTFV, and the ITC determined that imports of copper pipe and tube from Vietnam are materially injuring a U.S. industry, unliquidated entries of such merchandise from Vietnam entered, or withdrawn from warehouse, for consumption are subject to the assessment of antidumping duties.

⁴ Id.

In accordance with section 736(a)(1) of the Act, Commerce will direct U.S. Customs and Border Protection (CBP) to assess, upon further instruction by Commerce, antidumping duties equal to the amount by which the normal value of the merchandise exceeds the export price (or constructed export price) of the subject merchandise for all relevant entries of copper pipe and tube from Vietnam. Antidumping duties will be assessed on unliquidated entries of copper pipe and tube from Vietnam entered, or withdrawn from warehouse, for consumption on or after February 1, 2021, the date of publication of the Preliminary Determination,⁵ but antidumping duties will not be assessed on entries of subject merchandise occurring after the expiration of the provisional measures period and before publication in the Federal Register of the ITC's final injury determination, as further described below.

⁵ See Seamless Refined Copper Pipe and Tube from the Socialist Republic of Vietnam: Preliminary Affirmative Determination of Sales at Less Than Fair Value and Preliminary Negative Determination of Critical Circumstances, 86 FR 7698 (February 1, 2021) (Preliminary Determination).

Continuation of Suspension of Liquidation

In accordance with section 736 of the Act, Commerce will instruct CBP to continue to suspend liquidation on all relevant entries of copper pipe and tube from Vietnam entered, or withdrawn from warehouse, for consumption on or after the date of publication of the ITC's final affirmative injury determination in the Federal Register. These instructions suspending liquidation will remain in effect until further notice.

Pursuant to 735(c)(1)(B) of the Act and 19 CFR 351.210(d), Commerce will also instruct CBP to require cash deposits equal to the appropriate estimated weighted-average dumping margin indicated in the table below. Accordingly, effective on the date of publication of the ITC's final affirmative injury determination, CBP will require, at the same time as an importer of record would normally deposit estimated duties on the subject merchandise, a cash deposit for each entry of subject merchandise equal to the appropriate estimated weighted-average dumping margins listed below.⁶

⁶ See section 736(a)(3) of the Act.

Estimated Weighted-Average Dumping Margins

The estimated weighted-average dumping margins are as follows:

Exporter | Producer | Estimated weighted- average dumping margin (percent)
Hailiang (Vietnam) Copper Manufacturing Company Limited/Hongkong Hailiang Metal Trading Limited (aka Hong Kong Hailiang Metal Trading Limited) | Hailiang (Vietnam) Copper Manufacturing Company Limited/Hongkong Hailiang Metal Trading Limited (aka Hong Kong Hailiang Metal Trading Limited) | 8.35
Jintian Copper Industrial (Vietnam) Company Limited (aka Jintian Copper Industrial (Vietnam) Co., Ltd) | Jintian Copper Industrial (Vietnam) Company Limited (aka Jintian Copper Industrial (Vietnam) Co., Ltd) | 8.35
Toan Phat Copper Tube Joint Stock Company | Toan Phat Copper Tube Joint Stock Company | 8.35
Vietnam-Wide Entity |  | 8.35

Provisional Measures

Section 733(d) of the Act states that suspension of liquidation pursuant to an affirmative preliminary determination may not remain in effect for more than four months, except that Commerce may extend the four-month period to no more than six months at the request of exporters representing a significant proportion of exports of the subject merchandise. Commerce published its affirmative Preliminary Determination on February 1, 2021.⁷ On February 8, 2021, Commerce postponed the Final Determination and extended the provisional measures period from four months to six months.⁸ Commerce published the Final Determination in the Federal Register on June 24, 2021.⁹ The six-month period beginning on the date of publication of the LTFV Preliminary Determination ended on July 30, 2021.

⁷ See Preliminary Determination.

⁸ See Seamless Refined Copper Pipe and Tube from the Socialist Republic of Vietnam: Postponement of Final Determination in the Less-Than-Fair-Value Investigation, 86 FR 8588 (February 8, 2021).

⁹ See Final Determination.

Therefore, in accordance with section 733(d) of the Act, Commerce will instruct CBP to terminate the suspension of liquidation and to liquidate, without regard to antidumping duties, unliquidated entries of copper pipe and tube from Vietnam, entered, or withdrawn from warehouse, for consumption after July 30, 2021, the date on which the provisional measures expired, through the day preceding the date of publication of the ITC's final affirmative injury determination in the Federal Register. Suspension of liquidation and the collection of cash deposits will resume on the date of publication of the ITC's final determination in the Federal Register.

Notification to Interested Parties

This notice constitutes the AD order with respect to copper pipe and tube from Vietnam pursuant to section 736(a) of the Act. Interested parties can find a list of AD orders currently in effect at https://enforcement.trade.gov/stats/iastats1.html.

This order is published in accordance with section 736(a) of the Act and 19 CFR 351.211(b).

Dated: August 9, 2021.
Christian Marsh,
Acting Assistant Secretary for Enforcement and Compliance.

Appendix

Scope of the Order

The products covered by this order are all seamless circular refined copper pipes and tubes, including redraw hollows, greater than or equal to 6 inches (152.4 mm) in actual length and measuring less than 12.130 inches (308.102 mm) in actual outside diameter (OD), regardless of wall thickness, bore (e.g., smooth, enhanced with inner grooves or ridges), manufacturing process (e.g., hot finished, cold-drawn, annealed), outer surface (e.g., plain or enhanced with grooves, ridges, fins, or gills), end finish (e.g., plain end, swaged end, flared end, expanded end, crimped end, threaded), coating (e.g., plastic, paint), insulation, attachments (e.g., plain, capped, plugged, with compression or other fitting), or physical configuration (e.g., straight, coiled, bent, wound on spools).

The scope of this order covers, but is not limited to, seamless refined copper pipe and tube produced or comparable to the American Society for Testing and Materials (ASTM) ASTM-B42, ASTM-B68, ASTM-B75, ASTM-B88, ASTM-B88M, ASTM-B188, ASTM-B251, ASTM-B251M, ASTM-B280, ASTM-B302, ASTM-B306, ASTM-B359, ASTM-B743, ASTM-B819, and ASTM-B903 specifications and meeting the physical parameters described therein.

Also included within the scope of this order are all sets of covered products, including “line sets” of seamless refined copper tubes (with or without fittings or insulation) suitable for connecting an outdoor air conditioner or heat pump to an indoor evaporator unit. The phrase “all sets of covered products” denotes any combination of items put up for sale that is comprised of merchandise subject to the scope.

“Refined copper” is defined as: (1) Metal containing at least 99.85 percent by actual weight of copper; or (2) metal containing at least 97.5 percent by actual weight of copper, provided that the content by actual weight of any other element does not exceed the following limits:

Element | Limiting content percent by weight
Ag—Silver | 0.25
As—Arsenic | 0.5
Cd—Cadmium | 1.3
Cr—Chromium | 1.4
Mg—Magnesium | 0.8
Pb—Lead | 1.5
S—Sulfur | 0.7
Sn—Tin | 0.8
Te—Tellurium | 0.8
Zn—Zinc | 1.0
Zr—Zirconium | 0.3
Other elements (each) | 0.3

Excluded from the scope of this order are all seamless circular hollows of refined copper less than 12 inches in actual length whose actual OD exceeds its actual length.

The products subject to this order are currently classifiable under subheadings 7411.10.1030 and 7411.10.1090 of the Harmonized Tariff Schedule of the United States (HTSUS). Products subject to the order may also enter under HTSUS subheadings 7407.10.1500, 7419.99.5050, 8415.90.8065, and 8415.90.8085. Although the HTSUS subheadings are provided for convenience and customs purposes, the written description of the scope of the order is dispositive.

[FR Doc. 2021-17375 Filed 8-12-21; 8:45 am]

BILLING CODE 3510-DS-P